DEPARTMENT OF AGRICULTURE

Food Safety and Inspection Service

9 CFR Parts 304, 308, 310, 320, 327, 381, 416, and 417

[Docket No. 05-024N]

Notice of a Section 610 Regulatory Flexibility Act Review of the Pathogen Reduction/Hazard Analysis Critical Control Point (HACCP) Systems Final Rule

AGENCY: Food Safety and Inspection Service (FSIS), USDA.

ACTION: Request for comments.

SUMMARY: The FSIS is conducting a review of the regulations established by the Pathogen Reduction/Hazard Analysis Critical Control Point (HACCP) final rule under Section 610 of the Regulatory Flexibility Act, as amended. These provisions require that all Federal agencies review existing regulations that have a significant economic impact on a substantial number of small entities to determine whether the associated impact can be minimized. FSIS is seeking comment from the public, especially from small meat and poultry establishments, on the regulations established by the Pathogen Reduction; Hazard Analysis Critical Control Point Systems (HACCP) final rule.

DATES: Comments on this notice must be received on or before October 11, 2005.

ADDRESSES: FSIS invites interested persons to submit comments on this notice. Comments may be submitted by the following methods:

• Mail, including floppy disks or CD-ROM's, and hand- or courier-delivered items: Send to Docket Clerk, U.S. Department of Agriculture, Food Safety and Inspection Service, 300 12th Street, SW., Room 102 Cotton Annex, Washington, DC 20250.

• Federal eRulemaking Portal: Go to http://www.regulations.gov. Electronic mail: fsis.regulationscomments@fsis.usda.gov. Follow the online instructions at that site for submitting comments.

All submissions received must include the Agency name and docket number 05-024N.

All comments submitted in response to this notice, as well as research and background information used by developing this document will be available for public inspection in the FSIS Docket Room at the address listed above between 8:30 a.m. and 4:30 p.m., Monday through Friday, except Federal holidays. The comments will also be posted on the Agency's Web site at http://www.fsis.usda.gov/regulations_&_policies/2005_Proposed_Rules_Index/index.asp.

FOR FURTHER INFORMATION CONTACT: Dr. Quita Bowman Blackwell, Director, Directives and Economic Analysis Staff, FSIS, U.S. Department of Agriculture, 300 12th Street, SW., Room 112, Washington, DC 20250-3700, (202) 720-5627.

SUPPLEMENTARY INFORMATION:

Background

Section 610 of the Regulatory Flexibility Act (RFA), as amended (5 U.S.C. 601-612), requires that all Federal agencies review any regulations that have been identified as having a significant economic impact upon a substantial number of small entities as a means to determine whether the associated impact can be minimized.

On January 28, 2005, FSIS published an Amended Plan for Reviewing Regulations Under Section 610 Requirements (70 FR 4047). According to this plan, FSIS would review the regulations established by the Pathogen Reduction; Hazard Analysis and Critical Control Point (HACCP) Systems final rule in 2005. The Agency is now conducting this review.

The Pathogen Reduction; Hazard Analysis and Critical Control Point (HACCP) Systems final rule (61 FR 38806) was published on July 25, 1996. These regulations did (1) require that each establishment develop and implement written Sanitation Standard Operating Procedures; (2) require regular microbial testing by slaughter establishments to verify the adequacy of the establishment's process controls for the prevention and removal of fecal contamination and associated bacteria; (3) establish pathogen reduction performance standards for Salmonella that slaughter establishments and establishments producing raw ground products must meet; and (4) require that all meat and poultry establishments develop and implement a system of preventive controls designed to improve the safety of their products, known as HACCP (Hazard Analysis and Critical Control Point).

The Agency is requesting comments, especially from small meat and poultry establishments, on the regulations established by the final rule. Specifically, FSIS is asking comments on the continued need for the rule; the complexity of the rule; the extent to which the rule may overlap, duplicate, or conflict with other Federal rules; and the degree to which technology, economic conditions, or other factors have changed in the area affected by the rule since its implementation.

Additional Public Notification

Public awareness of all segments of rulemaking and policy development is important. Consequently, in an effort to ensure that the public, and in particular minorities, women, and persons with disabilities are aware of this notice, FSIS will announce it on-line through the FSIS Web page located at http://www.fsis.usda.gov/regulations_&_policies/2005_Proposed_Rules_Index/index.asp.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update also is available on the FSIS Web page. Through Listserv and the Web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done at Washington, DC, on August 9, 2005.
Barbara J. Masters,
Administrator.

[FR Doc. 05-16027 Filed 8-11-05; 8:45 am]

BILLING CODE 3410-DM-P